FEDERAL COMMUNICATIONS COMMISSION

47 CFR Part 1

[CI Docket 95-6; FCC 99-407]

Use of Notices of Apparent Liability and Facts Underlying Notices of Apparent Liability in Subsequent Proceedings

AGENCY: Federal Communications Commission.

ACTION: Final rule; denial of petition for reconsideration.

SUMMARY: This document provides further interpretation of section 504(c) of the Communications Act of 1934, as amended. The Federal Communications Commission reiterated that it would continue its policy of not using the mere issuance of or failure to pay a Notice of Apparent Liability to the prejudice of a party. The Commission concluded, however, that using the underlying facts of a prior violation that shows a pattern of non-compliant behavior against a licensee in a subsequent renewal, forfeiture, transfer, or other proceeding does not cause the prejudice that Congress sought to avoid in section 504(c). This document also reverses the Commission's prior statement that no statutory violation can be deemed to be minor for purposes of making downward adjustments to forfeiture amounts.

FOR FURTHER INFORMATION CONTACT: Jacqueline Ellington, Enforcement Bureau, (202) 418-1160.

SUPPLEMENTARY INFORMATION: This is a synopsis of the Memorandum Opinion and Order denying reconsideration of The Commission's Forfeiture Policy Statement and Amendment Of Section 1.80 of the Rules to Incorporate the Forfeiture Guidelines, CI Docket 95-6, adopted December 21, 1999 and released December 28, 1999.

The complete text of this Memorandum Opinion and Order is available for inspection and copying during normal business hours in the FCC's Public Reference Center Room CY-A257, 445 12th Street, SW, Washington, DC 20554. The complete text may also be purchased from the Commission's duplication contractor, International Transcription Service, Inc., 1231 20th Street, NW, Washington, DC 20036; telephone (202) 857-3800, facsimile (202) 857-3805.

Federal Communications Commission.
Magalie Roman Salas,
Secretary.

[FR Doc. 00-2141 Filed 2-1-00; 8:45 am]

BILLING CODE 6712-01-U